Proclamation 10738 of April 30, 2024

National Foster Care Month, 2024

By the President of the United States of America

A Proclamation

The nearly 370,000 children in foster care deserve to grow up in safe and loving homes that help them reach their full potential. During National Foster Care Month, we share our gratitude for the foster parents who show foster youth unconditional love and the biological parents who work hard to reunite with their children despite difficult circumstances. We thank all the dedicated staff and volunteers who help foster youth find temporary and permanent homes. We commend the immeasurable courage of kids in foster care, who truly represent the best of our American spirit.

No young person should have to face the challenges that foster youth endure. The trauma they experience, including being separated from their biological families at a young age, can leave lasting emotional, mental, and physical scars that take a toll on their adult lives. Too often, it is children of color who bear the brunt of this toll: One in nine Black children and one in seven Native American children have been in foster care. Our Nation has a moral responsibility to ensure all our children are taken care of, especially our foster youth.

That begins with giving families the support and resources they need to provide for their children. The Child Tax Credit I championed during the pandemic cut taxes for millions and cut child poverty in half—the lowest rate ever. It gave families some breathing room, making sure they had the funds they needed to provide for their children. Ensuring families have access to support and resources is so important, especially because poverty can lead to unnecessary interventions that remove children from their homes. My Administration has also invested hundreds of millions of dollars in expanding and improving neglect prevention and child protective services.

At the same time, we are prioritizing helping the children and youth already in the foster care system find supportive and caring temporary and permanent homes. Relative and kinship caregivers take care of one-third of all children in the foster care system. That is why I have called to make adoption and legal guardianship more affordable for those caregivers by making the adoption tax credit fully refundable and extending it to legal guardians—including grandparents, aunts, uncles, and other relatives. For biological parents who want to safely reunite with their children, we are working to ensure that they have access to legal representation, which is critical for navigating the child welfare system.

To ensure every capable, loving family has the opportunity to foster, I signed an Executive Order that removed barriers making it harder for LGBTQI+ families to foster and adopt. We are also making sure that the 30 percent of all foster youth who identify as LGBTQI+ are placed in environments that love and support them for who they are.

There is still so much to do to ensure our foster youth are set up for success in their adult lives. That is why I proposed providing $9 billion to establish a housing voucher program for all 20,000 youths aging out of foster care every year, giving them the security to begin adulthood. I have also called for over $2 billion to help youth aging out of foster care find a job, enroll in and afford higher education, obtain basic necessities, and access preventative health care.

Throughout my life, I have had the honor of meeting incredible young people who grew up in foster care with wonderful foster parents, who loved them unconditionally. This month, we affirm to foster youth across America that we have their backs, and we recommit to supporting both foster and biological parents in creating safe and loving homes.

NOW, THEREFORE, I, JOSEPH R. BIDEN JR., President of the United States of America, by virtue of the authority vested in me by the Constitution and the laws of the United States, do hereby proclaim May 2024 as National Foster Care Month. I call upon all Americans to observe this month by reaching out in their neighborhoods and communities to the children and youth in foster care and their families, to those at risk of entering foster care, and to kin families and other caregivers.

IN WITNESS WHEREOF, I have hereunto set my hand this thirtieth day of April, in the year of our Lord two thousand twenty-four, and of the Independence of the United States of America the two hundred and forty-eighth.

[FR Doc. 2024-09818

Filed 5-2-24; 8:45 am]

Billing code 3395-F4-P